POSTAL SERVICE

39 CFR Part 111

New Mailing Standards for Domestic Mailing Services Products

AGENCY: Postal Service™.

ACTION: Proposed rule.

SUMMARY: On October 7, 2022, the Postal Service (USPS®) filed a notice of mailing services price adjustments with the Postal Regulatory Commission (PRC), effective January 22, 2023. This proposed rule contains the revisions to Mailing Standards of the United States Postal Service, Domestic Mail Manual (DMM®) that we would adopt to implement the changes coincident with the price adjustments.

DATES: Submit comments on or before November 21, 2022.

ADDRESSES: Mail or deliver written comments to the Manager, Product Classification, U.S. Postal Service, 475 L'Enfant Plaza SW, Room 4446, Washington, DC 20260-5015. If sending comments by email, include the name and address of the commenter and send to PCFederalRegister@usps.gov, with a subject line of “January 2023 Domestic Mailing Services Proposal.” Faxed comments are not accepted.

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Krista Becker at (202) 268-7345, Samie Rehman at (202) 268-7023, Karen Key at (202) 268-7492, or Doriane Harley at (202) 268-2537.

SUPPLEMENTARY INFORMATION: Proposed prices are available under Docket No. R2023-1 on the Postal Regulatory Commission's website at www.prc.gov.

The Postal Service's proposed rule includes changes to prices, mail classification updates, product simplification efforts, and minor revisions to the DMM.

Discount for Marketing Mail Flats on SCF Pallets

Currently, the Postal Service offers discounts for Carrier Route, High Density, High Density Plus, and Saturation Flats on 5-Digit or 5-Digit Scheme (direct) containers. Similar discounts would now be offered to flat-shaped Marketing Mail pieces on SCF Pallets. This proposed discount will be applicable to Automation and Nonautomation (3-Digit and 5-Digit Presort) Flats, Carrier Route Flats, High Density Flats, High Density Plus Flats and Saturation Flats on SCF Pallets regardless of the entry (None, DNDC, and DSCF). This preparation assures that no bundle sorting is required prior to the final processing plant.

Eliminate Zip Coding of Mailing Lists and Correction of Mailing Lists as AMS Products

Currently, the Postal Service offers mailing list services for manual correction of name and address on occupant lists and manual sorting of mailing lists on cards by 5-digit ZIP Code.

The Postal Service is proposing to discontinue these two services due to low volume usage and the availability of other Address Management products that allows more efficient access to the same information in an electronic format.

Elimination of Legacy Extra Service Labels

In an attempt to reduce duplicate labels, the Postal Service is eliminating the following legacy labels: PS 153 Signature Confirmation, PS 3800 Certified Mail, PS 3813 Insured Mail $500 and under, and PS 3813-P Insured Mail over $500. These labels will be replaced with IMpb compliant versions. Mailers that continue to use the eliminated labels will be subject to the IMpb Noncompliance Fee.

2023 Mailing Promotions

The Postal Service has been incenting mailers to integrate mobile technology and use innovative print techniques in commercial mail since 2012. These promotions have become an integral way for industry to try new things and innovate their mail campaigns. A 2023 Promotions Calendar is planned with opportunities for mailers to receive a postage discount by applying treatments or integrating technology in their mail campaigns.

These proposed revisions will provide consistency within postal products and add value for customers.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

500 Additional Mailing Services

503 Extra Services

1.0 Basic Standards for All Extra Services

* * * * *

1.7 Forms and Labels

* * * * *

[Add new 1.7.5 to read as follows:]

1.7.5 Legacy Extra Service Labels

Certain legacy extra service labels are no longer valid and have been replaced with IMpb compliant versions that have a tracking number beginning with “92” or higher. Mailers using noncompliant versions of the following extra service labels will be subject to the IMpb Noncompliance Fee (see Notice 123—Price List):

a. PS 153 Signature Confirmation

b. PS 3800 Certified Mail

c. PS 3813 Insured Mail $500 and under

d. PS 3813-P Insured Mail over $500

* * * * *

507 Mailer Services

Overview

* * * * *

[Revise the heading “8.0 Mailing List Services” to read as follows:]

8.0 Address Management System

* * * * *

[Replace current section 8.0 with new text to read as follows:]

8.0 Address Management System

8.1 Address Management System Products and Fees

For Address Management System (AMS) products and fees, see Notice 123—Price List.

8.1.2 Carrier Route Information System

The official city delivery scheme, called the Carrier Route Information System, is available to mailers.

8.1.3 Address Changes to Election Boards and Voter Registration Commissions

For the designated fee, the USPS provides address changes to election boards and voter registration commissions.

8.2 Election Boards and Voter Registration Commissions

8.2.1 General

Election boards or voter registration commissions may use the “Return Service Requested” endorsement and/or the National Change of Address Linkage System (NCOALink) to maintain current address lists.

8.2.2 Fee Assessment

The fee for address changes provided to election boards and voter registration commissions is assessed for each Form 3575 submitted. The fee is collected on a per card basis regardless of the number of changes made on the card and whether the change concerns a person on the board's or commission's list of registrants. Instead of the actual forms, the USPS may supply facsimiles of the forms or copies of the information they contain at no additional fee.

8.2.3 Procedure

Election boards or voter registration commissions using permanent registration may obtain residential change-of-address information from Forms 3575:

a. An authorized official of the board or commission must sign and submit to the manager, address management systems (district), a written request that lists the Post Offices for which change-of-address information is desired.

b. If the request is approved, an agreement must be obtained from and signed by an authorized official of the board or commission detailing the terms under which the change-of-address information is to be released.

c. The board or commission receives the requested information from the postmasters of the listed Post Offices and pays those postmasters the applicable fees.

* * * * *

705 Advanced Preparation and Special Postage Payment Systems

* * * * *

8.0 Preparing Pallets

* * * * *

8.10 Pallet Presort and Labeling

* * * * *

8.10.3 USPS Marketing Mail or Parcel Select Lightweight—Bundles, Sacks, or Trays

* * * * *

[Revise the text of 8.10.3e to read as follows]

e. SCF, required, permitted for bundles, sacks, and trays. Pallet may contain carrier route, automation price, and/or Presorted price mail for the 3-digit ZIP Code groups in L005, or L051 for Parcel Select Lightweight sacks. Mailers may, at their option, place AADC trays on SCF pallets when the tray's “label to” 3-digit ZIP Code (from L801) is within that SCF's service area. Mailers may also, at their option, place mixed ADC or mixed AADC trays, labeled per L010, on an SCF pallet entered at the SCF facility responsible for the processing of mixed ADC or mixed AADC trays for that NDC/ASF facility. The SCF Pallet discount applies to 3-Digit, 5-Digit, Carrier Route, High Density, High Density Plus, Saturation (including EDDM—Not Retail) USPS Marketing Mail flat shaped pieces on a SCF pallet entered at an Origin (None), DNDC, or DSCF entry. SCF pallet discount does not apply to Marketing Mail letters or parcels. Labeling: * * *

* * * * *

Notice 123 (Price List)

[Revise prices as applicable.]

* * * * *

Ruth B. Stevenson,
Chief Counsel, Ethics & Legal Compliance.

[FR Doc. 2022-22742 Filed 10-19-22; 8:45 am]

BILLING CODE P